DEPARTMENT OF JUSTICE

Notice of Lodging of RCRA Consent Decree

Notice is hereby given that on February 14, 2012, a proposed Consent Decree (“Decree”) in United States v. Pure Earth Recycling, Inc. (f/k/a Casie Ecology Oil Salvage, Inc. and Mid-Atlantic Recycling Technologies, Inc.), Civil Action No. 11-CV-00161-JBS-AMD, was lodged with the United States District Court for the District of New Jersey.

In this action the United States sought civil penalties and injunctive relief against Pure Earth Recycling under the Resource Conservation and Recovery Act (“RCRA”), 42 U.S.C. 6928, in connection with the Settling Defendant's violations of RCRA at its Vineland, New Jersey Facility. Under the proposed Consent Decree, the Settling Defendant agrees to pay a civil penalty of $750,000 subject to certain circumstances; comply with all terms and provisions of RCRA; comply with all applicable state and federal hazardous waste regulations; and if the Settling Defendant resumes operations at its Facility, comply with the Standard Operating Procedures set forth in the Consent Decree. The terms of the settlement regarding the amount of the civil penalty are based upon representations made by the Settling Defendant concerning its ability to pay.

The Department of Justice will receive for a period of thirty (30) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States v. Pure Earth Recycling, Inc. (f/k/a Casie Ecology Oil Salvage, Inc. and Mid-Atlantic Recycling Technologies, Inc.), Civil Action No. 11-CV-00161-JBS-AMD (D. N.J.), D.J. Ref. 90-7-1-09668.

During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $8.75 (25 cents per page reproduction cost) payable to the U.S. Treasury or, if by email or fax, forward a check in that amount to the Consent Decree Library at the address given above.

Ronald G. Gluck,
Assistant Chief, Environmental Enforcement Section, Environment and Natural Resources Division.

[FR Doc. 2012-4761 Filed 2-28-12; 8:45 am]

BILLING CODE 4410-15-P